DEPARTMENT OF HEALTH AND HUMAN SERVICES

Public Health Service

National Toxicology Program

The National Toxicology Program (NTP) Center for the Evaluation of Risks to Human Reproduction (CERHR) Announces the Availability of the NTP-CERHR Monograph on Methanol and Plans for Announcing Availability of Future Monographs.

Summary

The NTP-CERHR Monograph on the Potential Human Reproductive and Developmental Effects of Methanol is now available electronically on the CERHR web site or on CD or in printed text from the CERHR (contact information below). All future notifications about the availability of NTP-CERHR monographs will be provided through announcements from the NTP list-server (an electronic notification service) and on the CERHR web site: http://cerhr.niehs.nih.gov.

NTP-CERHR Monograph on Methanol

The CERHR announces the availability of the NTP-CERHR Monograph on the Potential Human Reproductive and Developmental Effects of Methanol. This monograph is the next in the NTP-CERHR series and is posted electronically on the CERHR website: http://cerhr/niehs/nih/gov. It is also available on CD or in printed text (limited copies) from the CERHR by contacting Dr. Michael Shelby, Director CERHR [NIEHS, 79 T.W. Alexander Drive, Building 4401, Room 103, P.O. Box 12233, MD EC-32, Research Triangle Park, NC 27709, telephone: (919) 541-3455; facsimile: (919) 316-4511; shelby@niehs.nih.gov.]

The CERHR follows a formal process for the evaluation of selected chemicals that includes opportunities for public input. The NTP-CERHR monographs are the final products of those evaluations. NTP-CERHR monographs include three parts: (1) The NTP brief, which presents the NTP's interpretation of the available data and its conclusions on the potential for a chemical to cause adverse developmental and reproductive effects in humans, (2) the expert panel report, and (3) all public comments on the expert panel report. The NTP utilizes information provided in the expert panel report, the public comments, as well as information from studies published since the expert panel meeting in reaching its conclusions about any potential hazard for humans.

Plans for Announcing Availability of Future Monographs

All future notifications about the availability of NTP-CERHR monographs will be provided through announcements from the NTP list-server (an electronic mail service) and on the CERHR web site: http://cerhr.niehs.nih.gov. Anyone can subscribe to the NTP list-server to receive notification about these documents and other NTP activities in several ways: (1) By registering on-line through the NTP web site at http://ntp-server.niehs.nih.gov, select Announcements, (2) by sending an e-mail to ntpmail-request@list.niehs.nih.gov with the word subscribe as the body of the message, or (3) by contacting the NTP Liaison and Scientific Review Office (919-541-0530 or liaison@starbase.niehs.nih.gov). Individuals or groups who have already subscribed to the NTP list-server do not need to subscribe again.

Monographs are now completed for six phthalates [di-butyl phthalate (DBP), butyl benzyl phthalate (BBP), di-isodecyl phthalate (DIDP), di-isononyl phthalate (DINP), di-n-hexyl phthalate (DnHP), and di-n-octyl phthalate (DnOP)] and methanol. The monographs for di-(2-ethylhexyl) phthalate (DEHP), 1-bromopropane, 2-bromopropane, ethylene glycol, and propylene glycol are in production and the NTP will make them available as soon as they are completed.

Background Information About CERHR

The NTP established the NTP CERHR in June 1998 [Federal Register, December 14, 1998: Volume 63, Number 239, page 68782)]. The CERHR is a publicly accessible resource for information about adverse reproductive and/or developmental health effects associated with exposure to environmental and/or occupational agents. The CERHR carries out assessments of these agents following a formal, multi-step, open process that includes rigorous evaluations by independent scientific panels in public forums and opportunities for public input. This process was published in the Federal Register (July 16, 2001: Volume 66, Number 136, pages 37047-37048) and is available on the CERHR web site see About CERHR or in printed text from the CERHR.

The CERHR invites the nomination of agents for review or scientists for its expert registry. Information about CERHR and the nomination process can be obtained from its homepage (http://cerhr.niehs.nih.gov) or by contacting Dr. Shelby (contact information provided above). The CERHR selects chemicals for evaluation based upon several factors, including production volume, extent of human exposure, public concern, and published evidence of reproductive or developmental toxicity.

Dated: October 2, 2003.
Samuel H. Wilson,
Deputy Director, National Institute Environmental Health Sciences

[FR Doc. 03-25779 Filed 10-9-03; 8:45 am]

BILLING CODE 4140-01-P